SMALL BUSINESS ADMINISTRATION

Surrender of License of Small Business Investment Company

Pursuant to the authority granted to the United States Small Business Administration by the Wind-Up Order of the United States District Court of the Middle District Court of Tennessee, Nashville Division, dated September 6, 2011 the United States Small Business Administration hereby surrender the license of Capital Across America, L.P. a Delaware limited partnership, to function as a small business investment company under the Small Business Investment Company License No. 04040273 issued to Capital Across America, on June 17, 1998 and said license is hereby declared null and void as of December 5, 2011.

United States Small Business Administration.
Dated: May 15, 2012.
Sean J. Greene,
Associate Administrator for Investment.

[FR Doc. 2012-13132 Filed 5-30-12; 8:45 am]

BILLING CODE 8025-01-P